DEPARTMENT OF THE INTERIOR

National Park Service

Chesapeake and Ohio Canal National Historical Park Advisory Commission; Notice of Public Meeting

Notice is hereby given in accordance with the Federal Advisory Committee Act that a meeting of the Chesapeake and Ohio Canal National Historical Park Federal Advisory Commission is scheduled for Friday, July 16, 2004, at the North Arcade Building, Glen Echo Park, 7300 MacArthur Blvd., Glen Echo, Maryland. The meeting will begin at 10 a.m.

The Commission was established by Public Law 91-664 to meet and consult with the Secretary of the Interior on general policies and specific matters related to the administration and development of the Chesapeake and Ohio Canal National Historical Park.

Members of the Commission are: Mrs. Sheila Rabb Weidenfeld, Chairman; Mr. Charles J. Weir; Mr. Barry A. Passett; Mr. Terry W. Hepburn; Ms. Elise B. Heinz; Ms. JoAnn M. Spevacek; Mrs. Mary E. Woodward; Mrs. Donna Printz; Mrs. Ferial S. Bishop; Ms. Nancy C. Long; Mrs. Jo Reynolds; Dr. James H. Gilford; Brother James Kirkpatrick.

Agenda items will include the Georgetown University Boathouse, the General Management Plan, and hurricane Isabelle recovery activities.

The meeting will be open to the public. Any member of the public may file with the Commission a written statement concerning the matters to be discussed. Persons wishing further information concerning this meeting, or who wish to submit written statements, may contact Kevin D. Brandt, Superintendent, C&O Canal National Historical Park, 1850 Dual Highway, Suite 100, Hagerstown, Maryland 21740.

Minutes of the meeting will be available for public inspection at park headquarters six weeks after the meeting.

Dated: May 28, 2004.
Kevin Brandt,
Superintendent, Chesapeake and Ohio Canal National Historical Park.

[FR Doc. 04-15144 Filed 7-2-04; 8:45 am]

BILLING CODE 4312-JK-M